SMALL BUSINESS ADMINISTRATION

[Disaster Declaration # 10804]

Oklahoma Disaster # OK-00010

AGENCY: U.S. Small Business Administration.

ACTION: Notice.

SUMMARY: This is a Notice of the Presidential declaration of a major disaster for Public Assistance Only for the State of Oklahoma (FEMA-1678-DR), dated 02/01/2007.

Incident: Severe Winter Storms.

Incident Period: 01/12/2007 through 01/26/2007.

Effective Date: 02/01/2007.

Physical Loan Application Deadline Date: 04/02/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416.

SUPPLEMENTARY INFORMATION: Notice is hereby given that as a result of the President's major disaster declaration on 02/01/2007, Private Non-Profit organizations that provide essential services of a governmental nature may file disaster loan applications at the address listed above or other locally announced locations.

The following areas have been determined to be adversely affected by the disaster:

Primary Counties:

Adair, Atoka, Bryan, Cherokee, Coal, Cotton, Craig, Delaware, Haskell, Hughes, Johnston, Latimer, Mayes, Mcintosh, Muskogee, Okfuskee, Okmulgee, Ottawa, Pittsburg, Seminole, Sequoyah, Wagoner

The Interest Rates are:

| Percent
Other (Including Non-Profit Organizations) with Credit Available Elsewhere | 5.250
Businesses and Non-Profit Organizations without Credit Available Elsewhere | 4.000

The number assigned to this disaster for physical damage is 10804.

(Catalog of Federal Domestic Assistance Number 59008)

Herbert L. Mitchell,
Associate Administrator, for Disaster Assistance.

[FR Doc. E7-2657 Filed 2-14-07; 8:45 am]

BILLING CODE 8025-01-P